DEPARTMENT OF THE INTERIOR

Bureau of Indian Affairs

[212D0102DR/DS5A300000/DR.5A311.IA000118]

Resumption of Preparation of an Environmental Impact Statement for the Proposed Redding Rancheria Fee-to-Trust and Casino Project, Shasta County, California

AGENCY: Bureau of Indian Affairs, Interior.

ACTION: Notice.

SUMMARY: The Bureau of Indian Affairs (BIA) is resuming the preparation of an environmental impact statement (EIS) for the Proposed Redding Rancheria Fee-to-Trust and Casino Project, Shasta County, California. The BIA is resuming preparation of the EIS following a request from the Redding Rancheria (Tribe) that the BIA continue processing the Tribe's fee-to-trust application.

ADDRESSES: The Draft EIS is available online at http://www.reddingeis.com.

FOR FURTHER INFORMATION CONTACT: Chad Broussard, Environmental Protection Specialist, Bureau of Indian Affairs, Pacific Regional Office, 2800 Cottage Way, Room W-2820, Sacramento, California 95825; telephone: (916) 978-6165; email: chad.broussard@bia.gov. Information is also available online at www.reddingeis.com.

SUPPLEMENTARY INFORMATION: On November 29, 2016, the BIA published a Notice of Intent to prepare an EIS for the Tribe's application for a fee-to-trust and casino project in Shasta County, California (81 FR 86001). On April 10, 2019, the BIA published a Notice of Availability for the Draft EIS and initiated a 45-day comment period (84 FR 14391). On June 6, 2019, the BIA published a Notice to extend the comment period for the Draft EIS (84. FR 26440). On May 14, 2020, the BIA published a Notice of Suspension of preparation of the EIS following a request by the Tribe for additional time to determine how it would proceed with its application (85 FR 28973). On January 19, 2021, the Tribe requested BIA continue processing the Tribe's application. Pursuant to this Notice to Resume, the BIA will resume preparation of the EIS for the Tribe's application.

The EIS is being prepared for the Tribe's application requesting that the United States acquire in trust approximately 232 acres of land in Shasta County, California. The proposed trust property is located in an unincorporated part of Shasta County, California, approximately 1.6 miles northeast of the existing Redding Rancheria, and about two miles southeast of downtown Redding. The proposed trust property includes seven parcels, bound by Bechelli Lane on the north, private properties to the south, the Sacramento River on the west, and Interstate 5 on the east. The Tribe is proposing to construct a casino resort that includes a casino, hotel, event/convention center, outdoor amphitheater, retail center, and associated parking/infrastructure. The new facility would replace the Tribe's existing casino, and the Tribe would convert the existing casino buildings to a different Tribal use. Additional information on the proposed action, alternatives to the proposed action, and potential environmental impacts associated with the proposed action and alternatives can be found in the Draft EIS.

Authority: This notice is published in accordance with sections 1501.7 and 1506.6 of the Council on Environmental Quality Regulations (40 CFR parts 1500 through 1508) implementing the procedural requirements of the National Environmental Policy Act of 1969, as amended (42 U.S.C. 4321-4345 et seq.), and the Department of the Interior National Environmental Policy Act Regulations (43 CFR part 46), and is in the exercise of authority delegated to the Assistant Secretary—Indian Affairs by 209 DM 8.

Bryan Newland,
Principal Deputy Assistant Secretary—Indian Affairs.

[FR Doc. 2021-20555 Filed 9-22-21; 8:45 am]

BILLING CODE 4337-15-P